DEPARTMENT OF HEALTH AND HUMAN SERVICES

Administration for Community Living

Agency Information Collection Activities; Submission for OMB Review; Public Comment Request; of the National Institute on Disability, Independent Living, and Rehabilitation Research (NIDILRR) Grantee Annual Performance Reporting (APR) and Final Report Forms OMB Control Number 0985-0050

AGENCY: Administration for Community Living, HHS.

ACTION: Notice.

SUMMARY: The Administration for Community Living is announcing that the proposed collection of information listed above has been submitted to the Office of Management and Budget (OMB) for review and clearance as required under the Paperwork Reduction Act of 1995. This 30-day notice collects comments on the information collection requirements related to the National Institute on Disability, Independent Living, and Rehabilitation Research (NIDILRR) Grantee Annual Performance Reporting (APR) and Final Report Forms OMB Control Number 0985-0050.

DATES: Comments on the collection of information must be submitted electronically by 11:59 p.m. (EST) or postmarked by January 16, 2024.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Myrial Earl, Administration for Community Living, Myrial.Earl@acl.hhs.gov, (202) 795-7341.

SUPPLEMENTARY INFORMATION: In compliance with 44 U.S.C. 3507, the Administration for Community Living (ACL) has submitted the following proposed collection of information to OMB for review and clearance. The National Institute on Disability, Independent Living, and Rehabilitation Research (NIDILRR) Grantee Annual Performance Reporting (APR) and Final Report Forms collect data from all NIDILRR grantees via a web-based reporting system and addresses specific HHS regulations that shall be met by applicants and grantees. HHS regulations that apply to NIDILRR Grant programs include part 75 of the Uniform Administrative Requirements, Cost Principles and Audit requirements for HHS Awards.

Specifically, § 75.342, which requires grantees to submit an annual performance report or, for the last year of a project, a final report that evaluates: (a) the grantee's progress in achieving the objectives in its approved application, (b) the effectiveness of the project in meeting the purposes of the program, and (c) the results of research and related activities.

Additionally, GPRA requires all federal agencies to implement performance measurement systems that include: (1) a five-year strategic plan, (2) an annual performance plan, and (3) an annual performance report. Currently, NIDILRR has met these requirements and has established performance indicators to meet the reporting requirements. The NIDILRR APR System currently includes reporting forms for all 10 of NIDILRR's grant programs.

This information collection system covers 10 grant programs funded or administered by NIDILRR/ACL, and each grantee submits its information using a reporting form that is unique to the program mechanism under which it is funded. The 10 forms meet the reporting requirements for the following programs:

1. Rehabilitation Research Training Centers (RRTC)

2. Rehabilitation Engineering Research Centers (RERC)

3. Field Initiated Research Projects (FIP)

4. Advanced Rehabilitation Research Training Projects (ARRT)

5. Model Systems—(includes spinal cord injury, traumatic brain injury, burn centers)

6. Disability and Rehabilitation Research Projects (DRRP)

7. Knowledge Translation (KT) Projects

8. ADA National Network Centers (ADAs)

9. Small Business Innovation Research Projects (SBIR)

10. Research Fellowships Program (RFP)

Reporting forms for all 10 programs are Web-based.

Data collected through these forms: (a) facilitate program planning and management; (b) respond to ACL/HHS Grants Policy Administration Manual (GPAM) requirements; and (c) respond to the reporting requirements of the Government Performance and Results Act (GPRA) of 1993 (Pub. L. 103-62). NIDILRR/ACL uses the information gathered annually from these data collection efforts to provide Congress with the information mandated in GPRA, provide OMB information required for assessment of performance on GPRA indicators, and support its evaluation activities. Data collected from the 10 grant programs will provide a national description of the research activities of approximately 313 NIDILRR grantees. NIDILRR's GPRA plan must collect information to meet the following mandates: (a) implementation of a comprehensive plan that includes goals and objectives; (b) measurement of the program's progress in meeting its objectives; and (c) submission of an annual report on program performance, including plans for program improvement, as appropriate. The data collection system addresses nearly all of the agency's GPRA indicators, either directly or by providing information for the agency's other review processes.

This IC collects demographic data from people receiving programs and services funded by HHS regulations that apply to NIDILRR Grant programs under part 75 of the Uniform Administrative Requirements, Cost Principles and Audit requirements for HHS Awards.

ACL will adhere to best practices for collection of all demographic information when this information is collected for the programs listed in accordance with OMB guidance.

This includes, but is not limited to, guidance specific to the collection of sexual orientation and gender identity (SOGI) items that align with Executive Order 13985 on Advancing Racial Equity and Support for Underserved Communities Through the Federal Government, Executive Order 14075 on Advancing Equality for Lesbian, Gay, Bisexual, Transgender, Queer, and Intersex Individuals, and Executive Order 13988 on Preventing and Combating Discrimination on the Basis of Gender Identity and Sexual Orientation. Understanding these disparities can and should lead to improved service delivery for ACL's programs and populations served.

Comments in Response to the 60-Day Federal Register Notice

A 60-day FRN published in the FR on September 27, 2023, at 88 FR 66454-66456. There were no public comments received during the 60-day FRN public comment period.

Estimated Program Burden: ACL estimates the burden of this collection of information as follows:

| Number of respondents | Number of responses per respondent | Average burden hours per response | Total burden hours
New Grantees | * 71 | 1 | 52 | 3,692
Continuations of Major Programs | 138 | 1 | 22 | 3,036
Other Continuations | 104 | 1 | 10 | 1,040
Total | 313 |  |  | 7,768
* Does not include SBIR Phase I grants, which do not use the system.

Dated: December 8, 2023.
Alison Barkoff,
Principal Deputy Administrator for the Administration for Community Living, performing the delegable duties of the Administrator and the Assistant Secretary for Aging.

[FR Doc. 2023-27452 Filed 12-13-23; 8:45 am]

BILLING CODE 4154-01-P